DEPARTMENT OF TRANSPORTATION

Federal Aviation Administration

14 CFR Part 39

[Docket No. FAA-2005-22639; Directorate Identifier 2005-CE-48-AD; Amendment 39-14346; AD 2005-22-02]

RIN 2120-AA64

Airworthiness Directives; Gippsland Aeronautics Pty. Ltd. Model GA8 Airplanes

AGENCY: Federal Aviation Administration (FAA), DOT.

ACTION: Final rule; request for comments.

SUMMARY: The FAA is adopting a new airworthiness directive (AD) for all Gippsland Aeronautics Pty. Ltd. (Gippsland) Model GA8 airplanes. This AD requires you to repetitively inspect the upper and lower grooves of the forward cargo door slide for cracks, excessive wear, and excessive width. This AD also requires you to replace the forward cargo door slide if any of the above conditions are found during any inspection. This AD results from mandatory continuing airworthiness information (MCAI) issued by the airworthiness authority for Australia. We are issuing this AD to prevent failure of the forward cargo door slide caused by cracks, excessive wear, or excessive width. This failure could result in the cargo door detaching from the airplane in flight, potentially causing damage by hitting the back end of the airplane.

DATES: This AD becomes effective on November 17, 2005.

As of November 17, 2005, the Director of the Federal Register approved the incorporation by reference of certain publications listed in the regulation.

We must receive any comments on this AD by November 25, 2005.

ADDRESSES: Use one of the following to submit comments on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this AD, contact Gippsland Aeronautics, PO Box 881, Morwell, Victoria 3840, Australia; telephone: +61 (0) 3 5172 1200; facsimile: +61 (0) 3 5172 1201; e-mail: support@gippsaero.com.

To view the comments to this AD, go to http://dms.dot.gov. The docket number is FAA-2005-22639; Directorate Identifier 2005-CE-48-AD.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What events have caused this AD? The Civil Aviation Safety Authority (CASA), which is the airworthiness authority for Australia, recently notified FAA that an unsafe condition may exist on all Gippsland Model GA8 airplanes. The CASA reports that excessive wear in the slide of the forward cargo door was found during a routine inspection.

What is the potential impact if FAA took no action? If not prevented, cracks, excessive wear, or excessive width in the forward cargo door slide could cause the door slide to fail. This failure could result in the cargo door detaching from the airplane in flight, potentially causing damage by hitting the back end of the airplane.

Is there service information that applies to this subject? Gippsland has issued Mandatory Service Bulletin No. SB-GA8-2005-23, Issue 2, dated September 13, 2005.

What are the provisions of this service information? The service bulletin specifies repetitively inspecting the forward cargo door slide for cracks, signs of excessive wear, and excessive width. The service bulletin also specifies replacing the forward cargo door slide with a new cargo door slide, part number GA8-521022-149, if any of the above conditions are found during any inspection.

What action did the CASA take? The CASA classified this service bulletin as mandatory and issued Australian AD Number AD/GA8/3, dated September 27, 2005, to ensure the continued airworthiness of these airplanes in Australia.

Did the CASA inform the United States under the bilateral airworthiness agreement? These Gippsland Model GA8 airplanes are manufactured in Australia and are type-certificated for operation in the United States under the provisions of section 21.29 of the Federal Aviation Regulations (14 CFR 21.29) and the applicable bilateral airworthiness agreement.

Under this bilateral airworthiness agreement, the CASA has kept us informed of the situation described above.

FAA's Determination and Requirements of This AD

What has FAA decided? We have examined the CASA's findings, reviewed all available information, and determined that we need to issue an AD for products of this type design that are certificated for operation in the United States.

Since the unsafe condition described previously is likely to exist or develop on other Gippsland Model GA8 airplanes of the same type design that are registered in the United States, we are issuing this AD to prevent failure of the forward cargo door slide caused by cracks, excessive wear, or excessive width. This failure could result in the cargo door detaching from the airplane in flight, potentially causing damage by hitting the back end of the airplane.

What does this AD require? This AD requires you to repetitively inspect the upper and lower grooves of the forward cargo door slide for cracks, excessive wear, and excessive width. This AD also requires you to replace the forward cargo door slide if any of the above conditions are found during any inspection.

In preparing this rule, we contacted type clubs and aircraft operators to get technical information and information on operational and economic impacts. We did not receive any information through these contacts. If received, we would have included a discussion of any information that may have influenced this action in the rulemaking docket.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include the docket number, “FAA-2005-22639; Directorate Identifier 2005-CE-48-AD” at the beginning of your comments. We will post all comments we receive, without change, to http://dms.dot.gov, including any personal information you provide. We will also post a report summarizing each substantive verbal contact with FAA personnel concerning this AD.

Using the search function of our docket Web site, anyone can find and read the comments received into any of our dockets, including the name of the individual who sent the comment (or signed the comment on behalf of an association, business, labor union, etc.). This is docket number FAA-2005-22639; Directorate Identifier 2005-CE-48-AD. You may review the DOT's complete Privacy Act Statement in the Federal Register published on April 11, 2000 (65 FR 19477-78) or you may visit http://dms.dot.gov.

Are there any specific portions of this AD I should pay attention to? We specifically invite comments on the overall regulatory, economic, environmental, and energy aspects of this AD. If you contact us through a nonwritten communication and that contact relates to a substantive part of this AD, we will summarize the contact and place the summary in the docket. We will consider all comments received by the closing date and may amend this AD in light of those comments and contacts.

Docket Information

Where can I go to view the docket information? You may view the AD docket that contains the AD, any comments received, and any final disposition in person at the DMS Docket Offices between 9 a.m. and 5 p.m., Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-22639; Directorate Identifier 2005-CE-48-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-22-02 Gippsland Aeronautics Pty. Ltd.: Amendment 39-14346; Docket No. FAA-2005-22639; Directorate Identifier 2005-CE-48-AD.

When Does This AD Become Effective?

(a) This AD becomes effective on November 17, 2005.

Are Any Other ADs Affected by This Action?

(b) None.

What Airplanes Are Affected by This AD?

(c) This AD affects Model GA8 airplanes, all serial numbers, that are certificated in any category.

What Is the Unsafe Condition Presented in This AD?

(d) This AD is the result of mandatory continuing airworthiness information (MCAI) issued by the airworthiness authority for Australia. We are issuing this AD to prevent failure of the forward cargo door slide caused by cracks, excessive wear, or excessive width. This failure could result in the cargo door detaching from the airplane in flight, potentially causing damage by hitting the back end of the airplane.

What Must I Do To Address This Problem?

(e) To address this problem, you must do the following:

Actions | Compliance | Procedures
(1) Do the following: (i) Inspect the upper and lower grooves of the forward cargo door slide for cracks and excessive wear; and (ii) Measure the width of the grooves to ensure the grooves are no more than 0.145 inches in width (excessive width) | Initially within the next 20 hours time-in-service (TIS) after November 17, 2005 (the effective date of this AD). Repetitively thereafter at intervals not to exceed 100 hours TIS | As specified in Gippsland Aeronautics Mandatory Service Bulletin SB-GA8-2005-23, Issue 2, Date of Issue: September 13, 2005.
(2) If any crack, excessive wear, or excessive width is found during any inspection required in paragraph (e)(1) of this AD, replace the door slide with a new door slide, part number GA8-521022-149. | Replace before further flight after the inspection in which the damage is found. After the replacement, continue with the repetitive inspections required by paragraph (e)(1) of this AD | As specified in Gippsland Aeronautics Mandatory Service Bulletin SB-GA8-2005-23, Issue 2, Date of Issue: September 13, 2005.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Doug Rudolph, Aerospace Engineer, FAA, Small Airplane Directorate, 901 Locust, Room 301, Kansas City, Missouri 64106; telephone: (816) 329-4059; facsimile: (816) 329-4090.

Is There Other Information That Relates to This Subject?

(g) Australian AD Number AD/GA8/3, dated September 27, 2005, also addresses the subject of this AD.

Does This AD Incorporate Any Material by Reference?

(h) You must do the actions required by this AD following the instructions in Gippsland Aeronautics Mandatory Service Bulletin SB-GA8-2005-23, Issue 2, Date of Issue: September 13, 2005. The Director of the Federal Register approved the incorporation by reference of this service bulletin in accordance with 5 U.S.C. 552(a) and 1 CFR part 51. To get a copy of this service information, contact Gippsland Aeronautics, PO Box 881, Morwell, Victoria 3840, Australia; telephone: +61 (0) 3 5172 1200; facsimile: +61 (0) 3 5172 1201; e-mail: support@gippsaero.com. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is Docket No. FAA-2005-22639; Directorate Identifier 2005-CE-48-AD.

Issued in Kansas City, Missouri, on October 18, 2005.
David R. Showers,
Acting Manager, Small Airplane Directorate, Aircraft Certification Service.

[FR Doc. 05-21176 Filed 10-24-05; 8:45 am]

BILLING CODE 4910-13-P